DEPARTMENT OF TRANSPORTATION

Federal Aviation Administration

Notice of Intent To Rule on Application 03-02-C-00-PKB To Impose and Use the Revenue From a Passenger Facility Charge (PFC) at Wood County Airport, Parkersburg, WV

AGENCY: Federal Aviation Administration (FAA), DOT.

ACTION: Notice of intent to rule on application.

SUMMARY: The FAA proposes to rule and invites public comment on the application to impose and use the revenue from a PFC at Wood County Airport under the provisions of the 49 U.S.C. 40117 and part 158 of the Federal Aviation Regulations (14 CFR part 158).

DATES: Comments must be received on or before May 30, 2003.

ADDRESSES: Comments on this application may be mailed or delivered in triplicate to the FAA at the following address: 176 Airport Circle, Room 101, Beaver, WV 25813.

In addition, one copy of any comments submitted to the FAA must be mailed or delivered to Mrs. Carolyn Strock, Manager of the Wood County Airport at the following address: Wood County Airport, P.O. Box 4089, Parkersburg, West Virginia 26104-4089.

Air carriers and foreign air carriers may submit copies of written comments previously provided to the Wood County Airport Authority under § 158.23 of part 158.

FOR FURTHER INFORMATION CONTACT: Mr. Matthew DiGiulian, Civil Engineer, Beckley Airports Field Office, 176 Airport Circle, Room 101, Beaver, WV 25813, (304) 252-6216. The application may be reviewed in person at this same location.

SUPPLEMENTARY INFORMATION: The FAA proposes to rule and invites public comment on the application to impose and use the revenue from a PFC at Wood County Airport under the provisions of the 49 U.S.C. 40117 and part 158 of the Federal Aviation Regulations (14 CFR part 158).

On April 15, 2003, the FAA determined that the application to impose and use the revenue from a PFC submitted by Wood County Airport Authority was substantially complete within the requirements of section 158.25 of part 158. The FAA will approve or disapprove the application, in whole or in part, no later than July 15, 2003.

The following is a brief overview of the application.

Proposed charge effective date: July 1, 2003.

Proposed charge expiration date: January 1, 2009.

Level of the proposed PFC: $4.50.

Total estimated PFC revenue: $322,502.

Brief description of proposed project(s):

—Terminal Improvements

—Airfield Drainage Improvements

—Repair Aircraft Parking Apron

—Conduct Master Plan Update

—Acquire Snow Removal Equipment

—Terminal/Security Improvements

—Rehabilitate Runway 3/21

Class or classes of air carriers which the public agency has requested not be required to collect PFCs:

—All carriers operating under FAR part 135, FAR part 91, and any unscheduled carriers operating under FAR part 121.

Any person may inspect the application in person at the FAA office listed above under FOR FURTHER INFORMATION CONTACT and at the FAA regional Airports office located at: AEA-610, FAA Eastern Region, 1 Aviation Plaza, Jamaica, NY 11434-4809.

In addition, any person may, upon request, inspect the application, notice and other documents germane to the application in person at the Wood County Airport Authority.

Issued in Beckley, West Virginia, on April 14, 2003.
Larry F. Clark,
Manager, Beckley Airports Field Office, Eastern Region.

[FR Doc. 03-10576 Filed 4-29-03; 8:45 am]

BILLING CODE 4910-13-M